Title 3—

The President

Proclamation 7612 of October 18, 2002

National Character Counts Week, 2002

By the President of the United States of America

A Proclamation

President Theodore Roosevelt once said that, “Character, in the long run, is the decisive factor in the life of an individual and of nations alike.” During National Character Counts Week, Americans reaffirm our dedication to promoting good character and upholding the timeless virtues that make our Nation strong.

Our Founding Fathers understood that our country would survive and flourish if our Nation was committed to good character and an unyielding dedication to liberty and justice for all. Throughout our history, our most honorable heroes practiced the values of hard work and honesty, commitment to excellence and courage, and self-discipline and perseverance. Today, as we work to preserve peace and freedom throughout the world, we are guided by a national character that respects human dignity and values every life.

The future success of our Nation depends on our children's ability to understand the difference between right and wrong and to have the strength of character to make the right choices. To help them reach their full potential and live with integrity and pride, we must teach our children to be kind, responsible, honest, and self-disciplined. These important values are first learned in the family, but all of our citizens have an obligation to support parents in the character education of our children.

Our schools play a crucial role in teaching the skills, knowledge, and moral values that will help our children succeed. As Martin Luther King, Jr., stated, “. . . intelligence is not enough. Intelligence plus character—that is the goal of true education.” By guiding children to understand universal values such as respect, tolerance, compassion, and commitment to family and community, our schools are working to achieve this goal.

My Administration is committed to promoting character by encouraging public service and civic awareness. The USA Freedom Corps is helping citizens discover volunteer opportunities in their communities and spreading the message that everyone can do something to care for their neighbors in need. This past June, we convened the White House Conference on Character and Community, which showcased programs from around the country that are proving that sound values can be effectively taught.

By affirming the importance of good character in our society and encouraging all people to lead lives of virtuous purpose, we can prepare our Nation, and especially our Nation's children, for the challenges and opportunities that lie ahead. Strengthening our national character will help secure greater opportunity, prosperity, and hope for all.

NOW, THEREFORE, I, GEORGE W. BUSH, President of the United States of America, by virtue of the authority vested in me by the Constitution and laws of the United States, do hereby proclaim October 20 through October 26, 2002, as National Character Counts Week. I call upon all public officials, educators, librarians, and all the people of the United States to observe this week with appropriate ceremonies, activities, and programs.

IN WITNESS WHEREOF, I have hereunto set my hand this eighteenth day of October, in the year of our Lord two thousand two, and of the Independence of the United States of America the two hundred and twenty-seventh.

B

[FR Doc. 02-27192

Filed 10-22-02; 9:07 am]

Billing code 3195-01-P